DEPARTMENT OF THE TREASURY

Office of Thrift Supervision

12 CFR Part 584

[Docket No. 2000-91]

RIN 1550-AB29

Savings and Loan Holding Companies; Notice of Significant Transactions or Activities and OTS Review of Capital Adequacy

AGENCY: Office of Thrift Supervision, Treasury.

ACTION: Proposed rule; extension of comment period.

SUMMARY: The Office of Thrift Supervision (OTS) is extending the comment period until February 9, 2001 for its proposed rule published October 27, 2000. The proposed rule would require certain savings and loan holding companies to notify OTS before engaging in, or committing to engage in, a limited set of debt transactions, transactions that reduce capital, some asset acquisitions, and other transactions. The proposal also sought comment on a proposal to codify OTS's current practices for reviewing the capital adequacy of savings and loan holding companies and, when necessary, requiring additional capital on a case-by-case basis.

DATES: Comments must be received by February 9, 2001.

ADDRESSES:

Mail: Send comments to Manager, Dissemination Branch, Information Management and Services Division, Office of Thrift Supervision, 1700 G Street, NW., Washington, DC 20552, Attention Docket No. 2000-91.

Delivery: Hand deliver comments to the Guard's Desk, East Lobby Entrance, 1700 G Street, NW., from 9:00 a.m. to 4:00 p.m. on business days, Attention Docket No. 2000-91.

Facsimiles: Send facsimile transmissions to FAX Number (202) 906-7755, Attention Docket No. 2000-91; or (202) 906-6956 (if comments are over 25 pages).

E-Mail: Send e-mails to “public.info@ots.treas.gov”, Attention Docket No. 2000-91, and include your name and telephone number.

Public Inspection: Interested persons may inspect comments at the Public Reference Room, 1700 G St. NW., from 10:00 a.m. until 4:00 p.m. on Tuesdays and Thursdays or obtain comments and/or an index of comments by facsimile by telephoning the Public Reference Room at (202) 906-5900 from 9:00 a.m. until 5:00 p.m. on business days. Comments and the related index will also be posted on the OTS Internet Site at www.ots.treas.gov.

FOR FURTHER INFORMATION CONTACT: Kevin O'Connell, Senior Project Manager, (202) 906-5693, Supervision Policy; and Valerie J. Lithotomos, Counsel (Business and Finance) (202) 906-6439, Regulations and Legislation Division, Chief Counsel's Office, Office of Thrift Supervision, 1700 G Street, NW., Washington, DC 20552.

SUPPLEMENTARY INFORMATION: The proposed rule, published in the Federal Register on October 27, 2000 (65 FR 64392), indicated that public comments were to be submitted to the OTS no later than December 26, 2000.

OTS received two requests for an extension of the comment period. One request states that the rule proposes a significant change to OTS policy and that compliance with the current comment deadline would require a significant dedication of resources in the midst of year-end activities. The second request indicates an extension is warranted because the issues addressed in the proposal are of sufficient importance and complexity.

To afford the public adequate time to comment, OTS has determined to extend the comment period for 45 days to accommodate these requests. Therefore, the comment period is hereby extended until February 9, 2001.

Dated: December 6, 2000.
By the Office of Thrift Supervision.
Ellen Seidman,
Director.

[FR Doc. 00-31516 Filed 12-11-00; 8:45 am]

BILLING CODE 6720-01-P